DEPARTMENT OF TRANSPORTATION

Federal Railroad Administration

49 CFR Part 214

[Docket No. FRA-2025-0083]

RIN 2130-AD44

Repealing Outdated Railroad Workplace Safety Requirements and Making Other Improvements

AGENCY: Federal Railroad Administration (FRA), Department of Transportation (DOT).

ACTION: Notice of proposed rulemaking (NPRM).

SUMMARY: FRA proposes to repeal several roadway workplace safety requirements that have become obsolete. In addition, FRA proposes to establish a new special approval procedure to enable regulated entities, after public notice and FRA approval, to utilize an alternative approach to bridge worker safety that provides for an equivalent or better level of safety. Also, this rule proposes to clarify that the required training for operators of roadway maintenance machines equipped with a crane includes specific aspects such as maintaining vertical clearance.

DATES: Comments on the proposed rule must be received by September 2, 2025. FRA may consider comments received after that date, but only to the extent practicable.

ADDRESSES:

Comments: Comments related to Docket No. FRA-2025-0083 may be submitted by going to https://www.regulations.gov and following the online instructions for submitting comments.

Instructions: All submissions must include the agency name, docket number (FRA-2025-0083), and Regulatory Identification Number (RIN) for this rulemaking (2130-AD44). All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Timothy Presser, Track Specialist, Office of Railroad Safety, Federal Railroad Administration, telephone: (208) 241-9458, email: timothy.presser@dot.gov; or Aaron Moore, Senior Attorney, Federal Railroad Administration, telephone: (202) 853-4784, email: aaron.moore@dot.gov.

SUPPLEMENTARY INFORMATION:

I. Background

Consistent with the deregulatory agenda of President Donald J. Trump and Secretary of Transportation Sean P. Duffy, which seeks to unleash America's economic prosperity without compromising transportation safety, FRA is reviewing its regulatory requirements in parts 200 through 299 of title 49, Code of Federal Regulations (CFR). The minimum safety standards for railroad workplace safety, to prevent accidents and casualties to employees involved in certain railroad inspection, maintenance, and construction activities, are established in 49 CFR part 214, Railroad Workplace Safety. Some of the requirements contained in part 214 could be updated to reduce burdens, make technical or conforming changes, repeal aged-out regulations, or otherwise adjust to advancing technology or recent incidents without any adverse effect on railroad safety. Please review the Section-by-Section Analysis below for the relevant information related to each proposed change.

II. Section-by-Section Analysis

Section 214.119 Special Approval Procedure

Because 49 CFR part 214, subpart B is highly prescriptive and therefore discourages innovation or the deployment of advancing technology in bridge worker safety systems, FRA proposes to add a new § 214.119 that would provide for a special approval procedure similar to the process provided in 49 CFR 238.21; the proposed special approval procedure would enable a regulated entity, after public notice and FRA approval, to utilize an alternative approach to bridge worker safety that provides for an equivalent or better level of safety.

Section 214.331 Definite Train Location

FRA proposes to repeal § 214.331 entirely because definite train location, as a method of roadway worker protection, has been prohibited since June 2017.

Section 214.333 Informational Line-Ups of Trains

FRA proposes to repeal § 214.333 entirely because informational line-ups of trains, as a method of roadway worker protection, has been prohibited since June 2017.

Section 214.335 On-Track Safety Procedures for Roadway Work Groups, General

FRA proposes to revise paragraph (a) of this section to remove reference to definite train location and § 214.331 since that is no longer an allowed method of protection.

Section 214.347 Training and Qualification for Lone Workers

FRA proposes to revise paragraph (a)(3) of this section to remove reference to definite train location since that is no longer an allowed method of protection.

Section 214.357 Training and Qualification for Operators of Roadway Maintenance Machines Equipped With a Crane

FRA proposes to amend paragraph (b) of this section to clarify that the required training for operators of roadway maintenance machines equipped with a crane includes specific aspects such as maintaining vertical clearance. FRA expects that issues such as vertical clearance should be addressed in the employer's training and qualification program. Under current § 214.357(b), employers are required to include procedures for determining that the operator has the skills and knowledge to safely operate such crane machines. However, FRA expects that highlighting issues such as vertical clearance in the regulatory text may help in contributing to avoiding future incidents of crane machines striking structures, such as bridges. FRA does not expect this clarification to result in any additional burdens.

Section 214.513 Retrofitting of Existing On-Track Roadway Maintenance Machines; General

FRA proposes to amend § 214.513 by revising the title by removing reference to retrofitting. Likewise, FRA proposes to remove the retrofitting due dates in paragraphs (b) and (c) since those dates have long passed. The requirements of this section apply to existing on-track maintenance machines.

Section 214.515 Overhead Covers for Existing On-Track Roadway Maintenance Machines

FRA proposes to amend paragraph (a) of this section to remove reference to the date (March 28, 2005) that overhead covers must be repaired or reinstalled on existing on-track roadway maintenance machines currently or previously equipped with such covers. That date has long passed. Additionally, FRA proposes to delete paragraph (b) and redesignate existing paragraph (c) as new paragraph (b). Existing paragraph (b) allows for an operator of an existing on-track roadway maintenance machine that is not equipped with an overhead cover to request such a cover be provided and requires the employer to evaluate the feasibility of providing such a cover. FRA believes that since this provision was added over 20 years ago, these requests have already been made and that it is unlikely this paragraph is still utilized.

Section 214.517 Retrofitting of Existing On-Track Roadway Maintenance Machines Manufactured on or After January 1, 1991

FRA proposes to amend the title and introductory paragraph of § 214.517 to remove reference to retrofitting and the date it must be completed. That date has long passed.

Section 214.533 Schedule of Repairs Subject to Availability of Parts

FRA proposes to amend paragraph (d) of this section to clarify that this section permits electronic maintenance of required records. Existing paragraph (d) allows for electronic maintenance of required records, but the last sentence of this paragraph imposes a requirement to keep records on the on-track roadway maintenance machine or hi-rail vehicle or at a location designated by the employer. FRA proposes to add a clause to the end of that sentence to clarify that the location designated by the employer may be an electronic system, consistent with the existing option in paragraph (d) to use electronic means to maintain the required records.

III. Regulatory Impact and Notices

A. Executive Order (E.O.) 12866 (Regulatory Planning and Review) and DOT Regulatory Policies and Procedures

FRA has considered the impact of this proposed rule under E.O. 12866, Regulatory Planning and Review (58 FR 51735, Oct. 4, 1993), and DOT Order 2100.6B, Policies and Procedures for Rulemaking (Mar. 10, 2025). The Office of Information and Regulatory Affairs within the Office of Management and Budget (OMB) determined that this NPRM is not a significant regulatory action under section 3(f) of E.O. 12866.

This proposed rule would simplify the regulation by creating a special approval procedure in new § 214.119 consistent with a similar procedure in existing § 238.21; remove certain regulations rendered irrelevant by the passage of time in §§ 214.331, 214.333, 214.335, 214.347, 214.513, 214.515, and 214.517; clarify training requirements in § 214.357; and simplify record retention rules in § 214.533. These proposed changes would have no adverse impact on railroad safety. The proposed rule would provide additional clarity to regulated entities and eliminate unnecessary, outdated requirements while continuing to ensure workplace safety, substantive compliance, and availability of information related to railroad maintenance activities. While FRA has not quantified these changes, FRA estimates a cost savings would incur from the proposed amendments.

B. E.O. 14192 (Unleashing Prosperity Through Deregulation)

E.O. 14192, Unleashing Prosperity Through Deregulation (90 FR 9065, Jan. 31, 2025), requires that for “each new [E.O. 14192 regulatory action] issued, at least ten prior regulations be identified for elimination.” ¹ Implementation guidance for E.O. 14192 issued by OMB (Memorandum M-25-20, Mar. 26, 2025) defines two different types of E.O. 14192 actions: an E.O. 14192 deregulatory action, and an E.O. 14192 regulatory action.²

¹ Executive Office of the President. Executive Order 14192 of January 31, 2025. Unleashing Prosperity Through Deregulation. 90 FR 9065-9067. Feb. 6, 2025.

² Executive Office of the President. Office of Management and Budget. Guidance Implementing Section 3 of Executive Order 14192, Titled “Unleashing Prosperity Through Deregulation.” Memorandum M-25-20. Mar. 26, 2025.

An E.O. 14192 deregulatory action is defined as “an action that has been finalized and has total costs less than zero.” This proposed rulemaking is expected to have total costs less than zero, and therefore it would be considered an E.O. 14192 deregulatory action upon issuance of a final rule. While FRA affirms that each amendment proposed in this NPRM has a cost that is negligible or “less than zero” consistent with E.O. 14192, FRA requests comment on the extent of the cost savings for the changes proposed in this NPRM.

C. Regulatory Flexibility Act and E.O. 13272

The Regulatory Flexibility Act (5 U.S.C. 601 et seq.), as amended by the Small Business Regulatory Enforcement Fairness Act of 1996,³ requires Federal agencies to consider the effects of the regulatory action on small business and other small entities and to minimize any significant economic impact. Accordingly, DOT policy requires an analysis of the impact of all regulations on small entities, and mandates that agencies strive to lessen any adverse effects on these businesses. The term small entities comprises small businesses and not-for-profit organizations that are independently owned and operated and are not dominant in their fields, and governmental jurisdictions with populations of less than 50,000 (5 U.S.C. 601(6)).

³ Public Law 104-121, 110 Stat. 857 (Mar. 29, 1996).

No regulatory flexibility analysis is required, however, if the head of an Agency or an appropriate designee certifies that the rule will not have a significant economic impact on a substantial number of small entities. This proposed rule would not impose new requirements under part 214 beyond limited, cost-beneficial changes to training; it merely offers flexibilities or repeal aged-out regulations that could result in cost savings, if a small entity or other regulated entity chooses to utilize those flexibilities. By extending this regulatory relief, many regulated entities, including small entities, would experience a cost savings. Consequently, FRA certifies that the proposed action would not have a significant economic impact on a substantial number of small entities.

In accordance with section 213(a) of the Small Business Regulatory Enforcement Fairness Act of 1996 (Pub. L. 104-121, 110 Stat. 857), FRA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

D. Paperwork Reduction Act

This proposed rule offers regulatory flexibilities, and it contains no new information collection requirements in accordance with the Paperwork Reduction Act of 1995 (44 U.S.C. 3501 et seq). Therefore, an information collection submission to OMB is not required. With this NPRM, FRA will be using the existing OMB No. 2130-0539, Railroad Workplace Safety.

E. Environmental Assessment

FRA has analyzed this proposed rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

Pursuant to Section 106 of the National Historic Preservation Act and its implementing regulations, FRA has determined this undertaking has no potential to affect historic properties. FRA has also determined that this rulemaking does not approve a project resulting in a use of a resource protected by Section 4(f).

F. Federalism Implications

This proposed rule would not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This proposed rule would not result in the expenditure, in the aggregate, of $100,000,000 or more, adjusted for inflation, in any one year by State, local, or Indian Tribal governments, or the private sector. To the contrary, if finalized, this proposed rule would result in cost savings. Thus, consistent with section 202 of the Unfunded Mandates Reform Act of 1995 (Pub. L. 104-4, 2 U.S.C. 1532), FRA is not required to prepare a written statement detailing the effect of such an expenditure.

H. Energy Impact

E.O. 13211, Actions Concerning Regulations that Significantly Affect Energy Supply, Distribution, or Use, 66 FR 28355 (May 22, 2001), requires Federal agencies to prepare a Statement of Energy Effects for any “significant energy action.” FRA has evaluated this proposed rule in accordance with E.O. 13211 and determined that this proposed rule is not a “significant energy action” within the meaning of E.O. 13211. Nevertheless, if finalized, FRA reiterates that this would be a deregulatory action that would, to the extent it has an effect, tend to positively facilitate the movement of energy.

I. E.O. 13175 (Tribal Consultation)

FRA has evaluated this proposed rule in accordance with the principles and criteria contained in E.O. 13175, Consultation and Coordination with Indian Tribal Governments (Nov. 6, 2000). The proposed rule would not have a substantial direct effect on one or more Indian tribes, would not impose substantial direct compliance costs on Indian tribal governments, and would not preempt tribal laws (except to any extent already preempted by the preexisting part 214). Therefore, the funding and consultation requirements of E.O. 13175 do not apply, and a tribal summary impact statement is not required.

J. International Trade Impact Assessment

The Trade Agreement Act of 1979 ⁴ prohibits Federal agencies from engaging in any standards or related activities that create unnecessary obstacles to the foreign commerce of the United States. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the United States.

⁴ 19 U.S.C. ch. 13.

K. Privacy Act Statement

In accordance with 5 U.S.C. 553(c), DOT solicits comments from the public to better inform its rulemaking process. DOT posts these comments, without edit, to https://www.regulations.gov, as described in the system of records notice, DOT/ALL-14 FDMS, accessible through www.transportation.gov/privacy. To facilitate comment tracking and response, we encourage commenters to provide their name, or the name of their organization; however, submission of names is completely optional. Whether or not commenters identify themselves, all timely comments will be fully considered. If you wish to provide comments containing proprietary or confidential information, please contact the agency for alternate submission instructions.

L. Rulemaking Summary

As required by 5 U.S.C. 553(b)(4), a summary of this proposed rule can be found at https://www.regulations.gov, Docket No. FRA-2025-0083, in the SUMMARY section of this proposed rule.

List of Subjects in 49 CFR Part 214

Bridges, Occupational safety and health, Penalties, Railroad safety, Reporting and recordkeeping requirements.

For the reasons discussed in the preamble, FRA proposes to amend part 214 of chapter II, subtitle B of title 49, Code of Federal Regulations as follows:

1. The authority citation for part 214 continues to read as follows:

Authority: 49 U.S.C. 20102-20103, 20107, 21301-21302, 21304, 28 U.S.C. 2461 note; and 49 CFR 1.89.

2. Add § 214.119 to subpart B to read as follows:

§ 214.119 Special approval procedure

(a) General. The following procedures govern consideration and action upon requests for special approval of alternative standards or for alternative compliance under § 214.103, § 214.105, § 214.107, § 214.109, § 214.111, § 214.113, § 214.115, and § 214.117.

(b) Petitions for special approval of alternative standard or of alternative compliance. Each petition for special approval of an alternative standard or for alternative compliance shall contain—

(1) The name, title, address, email address, and telephone number of the primary person to be contacted with regard to review of the petition;

(2) The alternative proposed, in detail, to be substituted for the particular requirements of this part;

(3) Appropriate data or analysis, or both, establishing that the alternative will provide at least an equivalent level of safety; and

(4) A statement affirming that the railroad or railroad contractor has served a copy of the petition on designated representatives of its employees, together with a list of the names and addresses of the persons served; or alternatively, a statement affirming that the railroad or railroad contractor has provided an alternative means of notice, together with a description of the notice provided.

(c) Federal Register notice. FRA will publish a notice in the Federal Register concerning each petition under this section.

(d) Not later than 30 days from the date of publication of the notice in the Federal Register concerning a petition under this section, any person may comment on the petition.

(1) Each comment shall set forth specifically the basis upon which it is made, and contain a concise statement of the interest of the commenter in the proceeding.

(2) Each comment shall be submitted to the U.S. Department of Transportation, Docket Operations (M-30), West Building Ground Floor, Room W12-140, 1200 New Jersey Avenue SE, Washington, DC 20590, and shall contain the assigned docket number for that proceeding. The form of such submission may be in written or electronic form consistent with the standards and requirements established by the Federal Docket Management System and posted on its website at http://www.regulations.gov.

(e) Disposition of petitions.

(1) FRA will conduct a hearing on a petition in accordance with the procedures provided in § 211.25 of this chapter.

(2) If FRA finds that the petition complies with the requirements of this section or that the proposed plan is acceptable or changes are justified, or both, the petition will be granted, normally within 90 days of its receipt. If the petition is neither granted nor denied within 90 days, the petition remains pending for decision. FRA may attach special conditions to the approval of the petition. FRA may approve an alternative standard or alternative compliance in lieu of the relief requested by the petition. Following the approval of a petition, FRA may reopen consideration of the petition for cause stated.

(3) If FRA finds that the petition does not comply with the requirements of this section, or that the proposed plan is not acceptable or that the proposed changes are not justified, or both, the petition will be denied, normally within 90 days of its receipt.

(4) When FRA grants or denies a petition, or reopens consideration of the petition, written notice is sent to the petitioner and other interested parties.

3. Remove and reserve § 214.331.

§ 214.331 [Removed and Reserved]

4. Remove and reserve § 214.333.

§ 214.333 [Removed and Reserved]

5. Amend § 214.335 by revising paragraph (a) to read as follows:

§ 214.335 On-track safety procedures for roadway work groups, general.

(a) No employer subject to the provisions of this part shall require or permit a roadway worker who is a member of a roadway work group to foul a track unless on-track safety is provided by either working limits or train approach warning in accordance with the applicable provisions of § 214.319, § 214.321, § 214.323, § 214.325, § 214.327, § 214.329, or § 214.336.

* * * * *

6. Amend § 214.347 by revising paragraph (a)(3) to read as follows:

§ 214.347 Training and qualification for lone workers.

* * * * *

(a) * * *

(3) Rules and procedures prescribed by the railroad for individual train detection and establishment of working limits.

* * * * *

7. Amend § 214.357 by revising paragraph (b)(1) to read as follows:

§ 214.357 Training and qualification for operators of roadway maintenance machines equipped with a crane.

* * * * *

(b) * * *

(1) Procedures for determining that the operator has the skills to safely operate each machine the person is authorized to operate, including but not limited to maintaining vertical clearance; and

* * * * *

8. Amend § 214.513 by revising the section heading and paragraphs (b) and (c) to read as follows:

§ 214.513 Existing on-track roadway maintenance machines; general.

* * * * *

(b) Each existing on-track roadway maintenance machine shall be equipped with a permanent or portable horn or other audible warning device that produces a sound loud enough to be heard by roadway workers and other machine operators within the immediate work area. The triggering mechanism for the device shall be clearly identifiable and within easy reach of the machine operator.

(c) Each existing on-track roadway maintenance machine shall be equipped with a permanent illumination device or a portable light that is securely placed and not hand-held. The illumination device or portable light shall be capable of illuminating obstructions on the track ahead for a distance of 300 feet under normal weather and atmospheric conditions when the machine is operated during the period between one-half hour after sunset and one-half hour before sunrise or in dark areas such as tunnels.

9. Amend § 214.515 by revising paragraph (a), removing paragraph (b), and redesignating existing paragraph (c) as new paragraph (b), to read as follows:

§ 214.515 Overhead covers for existing on-track roadway maintenance machines.

(a) For existing on-track roadway maintenance machines either currently or previously equipped with overhead covers for the operator's position, defective covers shall be repaired and maintained in accordance with the provisions of § 214.531.

(b) For purposes of this section, overhead covers shall provide the operator's position with cover from normal rainfall and midday sun.

10. Amend § 214.517 by revising the section heading and the introductory text, to read as follows:

§ 214.517 Existing on-track roadway maintenance machines manufactured on or after January 1, 1991.

In addition to meeting the requirements of § 214.513, each existing on-track roadway maintenance machine manufactured on or after January 1, 1991, shall have the following:

* * * * *

11. Revise § 214.533(d) to read as follows:

§ 214.533 Schedule of repairs subject to availability of parts.

* * * * *

(d) Each employer shall maintain records pertaining to compliance with this section. Records may be kept on forms provided by the employer or by electronic means. The employer shall retain each record for at least one year, and the records shall be made available for inspection and copying during normal business hours by representatives of FRA and States participating under part 212 of this chapter. The records may be kept on the on-track roadway maintenance machine or hi-rail vehicle or at a location designated by the employer, including an electronic system.

Issued in Washington, DC.
Kyle D. Fields,
Chief Counsel.

[FR Doc. 2025-12104 Filed 6-27-25; 4:15 pm]

BILLING CODE 4910-06-P